DEPARTMENT OF JUSTICE

Antitrust Division

Notice Pursuant to the National Cooperative Research and Production Act of 1993—The Asymmetrical Digital Subscriber Line Forum

Notice is hereby given that, on November 20, 2000, pursuant to Section 6(a) of the National Cooperative Research and Production Act of 1993, 15 U.S.C. § 4301 et seq. (“the Act”), The Asymmetrical Digital Subscriber Line Forum (“ADSL”) has filed written notifications simultaneously with the Attorney General and the Federal Trade Commission disclosing changes in its membership status. The notifications were filed for the purpose of extending the Act's provisions limiting the recovery of antitrust plaintiffs to actual damages under specified circumstances. Specifically, Applied Innovation, Dublin, OH; Bel Fuse, San Diego, CA; Sharegate, Reno, NV; XIRCOM, Thousand Oaks, CA; Sedona Networks, Kanata, Ontario, CANADA; RC Networks, San Diego, CA; Accelerated Networks, Richardson, TX; DXO Telecom, Seoul, REPUBLIC OF KOREA; AdEvia Limited, London, England, UNITED KINGDOM; Calix Networks, Petaluma, CA; NHC Communications, Mount Royal, Quebec, CANADA; Netility, Sunnyvale, CA; Kasenna, Mountain View, CA; Xpeed Networks, San Jose, CA; Interactive Enterprise Ltd., Dublin, IRELAND; QS Communications, Cologne, GERMANY; Spirent Communications, Nepean, Ontario, CANADA; Sonus Networks, Freehold, NJ; Ericsson Aheadcom, Vienna, AUSTRIA; KPNQwest, The Hague, THE NETHERLANDS; Proscend Communication, Hsinchu, TAIWAN; Mariposa Technology, Petaluma, CA; CES Computer Solutions, Chester, NY; Legerity, Austin, TX; and L.E.A., Cesson Sevigne, FRANCE have been added as parties to this venture. Also, GTE/Bell Atlantic, New York, NY has been acquired by Verizon, New York, NY. Also, the following companies have changed their names: Velocity Communications, Fremont, CA is now Ikanos Communications, Fremont, CA is now RIAS Corporation, Fremont, CA; and Siecor, Keller, TX is now Corning Cable Systems, Keller, TX.

No other changes have been made in either the membership or planned activity of the group research project. Membership in this group research project remains open, an ADSL intends to file additional written notifications disclosing all changes in membership.

On May 15, 1995, ADSL filed its original notification pursuant to Section 6(a) of the Act. The Department of Justice published a notice in the Federal Register pursuant to Section 6(b) of the Act on July 25, 1995 (60 FR 38058).

The last notification was filed with the Department on June 23, 200. A notice for this filing has not yet been published in the Federal Register.

Constance K. Robinson,
Director of Operations, Antitrust Division.

[FR Doc. 01-13035 Filed 5-22-01; 8:45 am]

BILLING CODE 4410-11-M